DEPARTMENT OF COMMERCE

National Oceanic and Atmospheric Administration

RIN 0648-XV061

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its System Management Plan (SMP) Workgroup.

DATES: The SMP Workgroup will meet October 8, 2019, from 1 p.m. until 5 p.m. and October 9, 2019, from 8:30 a.m. until 12 p.m.

ADDRESSES:

Meeting address: The meeting will be held at the Town and Country Inn, 2008 Savannah Highway, Charleston, SC 29407; phone (843) 571-1000. The meeting is open to the public and will be available via webinar as it occurs. Registration is required. Webinar registration information, a public comment form, meeting agenda, and other meeting materials will be posted to the Council's website at: https://safmc.net/safmc-meetings/other-meetings/ as they become available.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The SMP Workgroup is an advisory group for the Council that reviews actions items, evaluates managed areas, and reviews management of managed areas recommended by the Council. The workgroup is holding a meeting to discuss components of SMPs and Oculina Bank Experimental Closed Area Evaluation Plan created by the Council. The Workgroup is responsible for development of a report to the Council with recommendations. Components of the report include background information on managed areas; biological and habitat monitoring; socio-economic factors; enforcement and compliance; research recommendations; and outreach.

Agenda items for this meeting include:

The workgroup will receive an overview of the current outreach web page for Spawning Special Management Zones and discuss improvements as needed. The workgroup will also receive an overview of the Oculina Experimental Closed Area Evaluation Plan and discuss drafting sections for the Biology, Socio-Economic, Law Enforcement, and Outreach components of the Plan. Following breakout group discussions, the workgroup will provide recommendations as appropriate. The workgroup will also discuss research recommendations and data needs for other managed areas.

Special Accommodations

The meeting is physically accessible to people with disabilities. Requests for auxiliary aids should be directed to the Council office (see ADDRESSES) 5 days prior to the public meeting.

Note: The times and sequence specified in this agenda are subject to change.

Authority: 16 U.S.C. 1801 et seq.

Dated: September 9, 2019.
Tracey L. Thompson,
Acting Deputy Director, Office of Sustainable Fisheries, National Marine Fisheries Service.

[FR Doc. 2019-19733 Filed 9-11-19; 8:45 am]

BILLING CODE 3510-22-P